DEPARTMENT OF ENERGY

Federal Energy Regulatory Commission

[Docket No. CP01-141-000]

PG&E Gas Transmission, Northwest Corporation; Notice of Availability of the Availability of the Environmental Assessment for the Proposed 2002 Expansion Project

June 22, 2001.

The staff of the Federal Energy Regulatory Commission (FERC or Commission) has prepared an environmental assessment (EA) on the natural gas pipeline facilities proposed by PG&E Gas Transmission, Northwest Corporation (PG&ENW) in the above-referenced docket.

The EA was prepared to satisfy the requirements of the National Environmental Policy Act. The staff concludes that approval of the proposed project, with appropriate mitigating measures, would not constitute a major Federal action significantly affecting the quality of the human environment.

The EA assesses the potential environmental effects of the construction and operation of the following proposed natural gas facilities:

• About 21 miles of 42-inch-diameter pipeline loop adjacent to PG&ENW's existing permanent right-of-way at about mileposts (MP) 87.6 through 108.3 in Kootenia County, Idaho and Spokane County, Washington (Loop C). Loop C would be the third pipeline on PG&ENW's transmission system;

• Various piping, blowdown, and valving additions at Main Line Valve (MLV) 5-1; and one new pig receiver and blowdown additions at MLV 5-2;

• One new 19,500 horsepower (hp) gas-fueled turbine and centrifugal compressor; construction of three new buildings; and installation of replacement standby generator at Compressor Station 4 in Bonner County, Idaho;

• Two new pig launchers, and tie-in facilities of the proposed loop at Compressor Station 5 in Kootanai County, Idaho;

• One new 19,500 gas-fueled turbine and centrifugal compressor; construction of one new building; install one new pig receiver; and replacement of a standby generator at Compressor Station 6 in Spokane County, Washington;

• One new 19,500 hp gas-fueled turbine and centrifugal compressor; construction of one new building; and installation of additional gas cooling facilities and one standby generator at Compressor Station 8 in Walla Walla County, Washington;

• One new 19,500 hp gas-fueled turbine and centrifugal compressor; construction of two new buildings; and relation of gas coller and installation of a replacement standby generator at Compressor Station 10 in Sherman County, Oregon; and

• One new 19,500 hp gas-fueled turbine and centrifugal compressor; construction of three new buildings; relocation of one building and gas cooler; installation of a additional gas cooling facilities; and replacement of one standby generator at Compressor Station 12 Deschutes County, Oregon.

The EA has been placed in the public files of the FERC. A limited number of copies of the EA are available for distribution and public inspection at: Federal Energy Regulatory Commission, Public Reference and Files Maintenance Branch, 888 First Street, NE., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First St., NE., Room 1A, Washington, DC 20426;

• Label one copy of the comments for the attention of the Gas Group 1, PJ11.1.

• Reference Docket No. CP01-141-000; and

• Mail your comments so that they will be received in Washington, DC on or before July 23, 2001.

Comments, protests and interventions may also be filed electronically via the Internet in lieu of paper. See 18 CFR 385.2001(a)(1)(iii) and the instructions on the Commission's web site at http://www.ferc.gov under the “e-Filing” link and the link to the User's Guide. Before you can file comments you will need to create an account which can be created by clicking on “Login to File” and then “New User Account.”

Comments will be considered by the Commission but will not serve to make the commenter a party to the proceeding. Any persons seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the proposed project is available from the Commission's Office of External Affairs, at (202) 208-1088 or on the FERC Internet website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-16226 Filed 6-27-01; 8:45 am]

BILLING CODE 6717-01-M